DEPARTMENT OF THE INTERIOR

Bureau of Land Management

[CA-660-1430-ER-CACA-44491]

Notice of Availability of the Final Environmental Impact Statement/Environmental Impact Report (EIS/EIR) for the Imperial Irrigation District's Desert Southwest Transmission Line Project, California

AGENCY: Bureau of Land Management, Interior.

ACTION: Notice of Availability of Final Environmental Impact Statement/ Environmental Impact Report (EIS/EIR).

SUMMARY: In accordance with the National Environmental Policy Act of 1969, as amended, 42 U.S.C. 4321-4347, and 40 CFR Part 1500, the Bureau of Land Management (BLM) announces that the Final EIS/EIR for the Imperial Irrigation District's (IID) Desert Southwest Transmission Line Project is available for a thirty (30) day public review and comment period.

DATES: The public is provided 30 days for review and comment after the date that the Environmental Protection Agency (EPA) publishes its Notice of Availability for this document in the Federal Register.

ADDRESSES: If you wish to comment, you may submit your comments by any of several methods. You may mail comments to: Gail Acheson, Field Manager, Bureau of Land Management, Palm Springs—South Coast Field Office, 690 W. Garnet Ave., P.O. Box 581260, North Palm Springs, CA 92258.

You may also comment via the Internet to: dgomez@ca.blm.gov. Please include in the subject line: “Final EIS/EIR, Desert Southwest Transmission Line Project” and your name and return address in your Internet message. If you do not receive a confirmation that we have received your Internet message, contact Diane Gomez at (760) 251-4852. You may also hand-deliver comments to: Palm Springs—South Coast Field Office, 690 W. Garnet Avenue, North Palm Springs, CA 92258. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Diane Gomez at (760) 251-4852 or e-mail: dgomez@ca.blm.gov.

SUPPLEMENTARY INFORMATION: This Final EIS/EIR assesses the environmental effects of constructing, operating and maintaining a 500 kilovolt (kV) electrical transmission line from an area near Blythe, California, to the Southern California Edison Company's Devers Substation, located several miles north of Palm Springs, California. Four alternatives and several minor variations to these alternatives are also considered. A Record of Decision for the proposed project will be prepared following the review of the final EIS. A copy of the Final EIS/EIR is available for review and comment via the Internet at http://www.ca.blm.gov/palmsprings. Electronic (on CD-ROM) and paper copies may also be obtained by contacting Diane Gomez at the aforementioned addresses and phone number.

Dated: September 26, 2005.
Elena Misquez,
Acting Field Manager.

[FR Doc. E5-7761 Filed 12-22-05; 8:45 am]

BILLING CODE 4310-40-P